DEPARTMENT OF HOMELAND SECURITY

Coast Guard

[Docket No. USCG-2021-0306]

Policy Letter for Covered Small Passenger Vessel Fire Safety Interim Rule Implementation

AGENCY: Coast Guard, DHS.

ACTION: Notice of availability.

SUMMARY: The Coast Guard announces the availability of Office of Commercial Vessel Compliance (CG-CVC) Policy Letter 23-03, titled “ `Covered Small Passenger Vessel' Fire Safety Interim Rule Implementation”. The policy letter describes how the U.S. Coast Guard plans to enforce multiple regulatory requirements found in the Fire Safety of Small Passenger Vessels interim rule, including means of escape requirements.

DATES: The policy letter announced in this notice was issued on October 26, 2023.

ADDRESSES: Items mentioned as being available in the docket, including CG-CVC Policy Letter 23-03 and the interim rule, can be found on the Federal Decision-Making Portal at https://www.regulations.gov. Search for docket number “USCG-2021-0306”.

FOR FURTHER INFORMATION CONTACT: For information about this document call or email LCDR Jonathan Duffett, Office of Commercial Vessel Compliance (CG-CVC), telephone 202-372-1221, cgcvc@uscg.mil.

SUPPLEMENTARY INFORMATION:

Discussion

The Coast Guard announces the availability of CG-CVC Policy Letter 23-03. The new policy clarifies the Coast Guard's interpretation of several regulatory changes promulgated in the interim rule titled, Fire Safety of Small Passenger Vessels, published December 27, 2021 (86 FR 73160).

The interim rule implemented requirements mandated by the Elijah E. Cummings Coast Guard Authorization Act of 2020, which amended title 46 U.S. Code section 3306(n). Section 3306(n) directs the Secretary of Homeland Security to prescribe fire safety regulations for “covered small passenger vessels,” defined as small passenger vessels with overnight accommodations for passengers or operating on an oceans or coastwise route, excluding fishing vessels and ferries. Topics in the new policy include means of escape, special consideration by the Officer in Charge, Marine Inspection, and excursion permits.

In particular, the interim rule eliminated the option for “existing vessels” (as defined in 46 CFR subchapters K and T) to comply with the means of escape requirements applicable to them on March 10, 1996, bringing all covered small passenger vessels, regardless of age, up to current standards for means of escape design and arrangement. CG-CVC developed Policy Letter 23-03 in response to numerous inquiries requesting clarification on the correct application of the interim rule to the wide variety of small passenger vessel arrangements.

A copy of CG-CVC Policy Letter 23-03 issued on October 26, 2023 is available in the docket where indicated in the ADDRESSES section of this document and on CG-CVC's website, at https://www.dco.uscg.mil/Our-Organization/Assistant-Commandant-for-Prevention-Policy-CG-5P/Inspections-Compliance-CG-5PC-/Commercial-Vessel-Compliance/CG-CVC-Policy-Letters/.

This notice is issued under authority of 5 U.S.C. 552(a) and 46 U.S.C. 3306(n).

M. Neeland,
Captain, U.S. Coast Guard, Chief, Commercial Vessel Compliance.

[FR Doc. 2023-24235 Filed 11-1-23; 8:45 am]

BILLING CODE 9110-04-P